OFFICE OF PERSONNEL MANAGEMENT

Submission for OMB Review; Comment Request for the Reinstatement of a Revised Information Collection: OPM Online Form 1417

AGENCY: Office of Personnel Management.

ACTION: Notice.

SUMMARY: In accordance with the Paperwork Reduction Act of 1995 (Pub. L. 104-13, May 22, 1995), this notice announces that the Office of Personnel Management is submitting to the Office of Management and Budget a request for reinstatement of a revised information collection. OPM Online Form 1417, CFC Online Results Report, is used to record Combined Federal Campaign pledges from local Principle Combined Fund Organizations (PCFOs).

We estimate 360 OPM Online Form 1417's will be completed annually. Each form takes approximately 30 minutes to complete. The annual estimated burden is 180 hours.

For copies of this proposal, contact Mary Beth Smith-Toomey on 202/606-8358, Fax 202/418-3251 or e-mail to mbtoomey@opm.gov. Please include a mailing address with your request.

DATES: Comments on this proposal should be received on or before February 19, 2002.

ADDRESSES: Send or deliver comments to:

Elizabeth Barber, Office of CFC Operations, U.S. Office of Personnel Management, 1900 E Street, NW, Room 5450, Washington, DC 20415, (202) 606-2564

and

Joseph Lackey, OPM Desk Manager, Office of Information & Regulatory Affairs, Office of Management & Budget, New Executive Office Building NW, Rm. 10235, Washington, DC 20503.

Office of Personnel Management.
Kay Coles James,
Director.

[FR Doc. 02-1322 Filed 1-17-02; 8:45 am]

BILLING CODE 6325-46-P